DEPARTMENT OF ENERGY

Federal Energy Regulatory Commission

[Docket Nos. EG11-61-000, etc.]

Paulding Wind Farm II, LLC, et al.; Notice of Effectiveness of Exempt Wholesale Generator Status

| Docket Nos.
Paulding Wind Farm II LLC | EG11-61-000
Macho Springs Power I, LLC | EG11-63-000
Alta Wind III Owner Lessor A | EG11-64-000
Alta Wind III Owner Lessor B | EG11-65-000
Alta Wind III Owner Lessor C | EG11-66-000
Alta Wind III Owner Lessor D | EG11-67-000
FRV AE Solar, LLC | EG11-68-000
Rockland Wind Farm LLC | EG11-69-000
Lively Grove Energy Partners, LLC | EG11-70-000
Summit Texas Clean Energy, LLC | EG11-71-000
White Stallion Energy Center, LLC | EG11-72-000
Blue Canyon Windpower VI LLC | EG11-73-000
Ghost Pine Windfarm, LP | FC11-5-000

Take notice that during the month of April 2011, the status of the above-captioned entities as Exempt Wholesale Generators or Foreign Utility Companies became effective by operation of the Commission's regulations. 18 CFR 366.7(a).

Dated: June 13, 2011.
Kimberly D. Bose,
Secretary.

[FR Doc. 2011-15171 Filed 6-17-11; 8:45 am]

BILLING CODE 6717-01-P